COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products and services to the Procurement List that will be furnished by nonprofit agencies employing persons who are blind or have other severe disabilities, and deletes services from the Procurement List previously provided by such agencies.

DATES: Effective Date: 3/7/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 9/24/2010 (75 FR 58367); 10/22/2010 (75 FR 65305); and 12/10/2010 (75 FR 76961-76962), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products:

Strap Webbing

NSN: 5340-01-043-5409.

NSN: 5340-01-043-8475.

NPA: Mississippi Industries for the Blind, Jackson, MS.

Contracting Activity: Defense Logistics Agency Troop Support, Philadelphia, PA.

COVERAGE: C-List for 100% of the requirement of the Department of Defense, as aggregated by the Defense Logistics Agency Troop Support, Philadelphia, PA.

Wind Jacket—Layer IV, ECWCS Gen III, Universal Camouflage

NSN: 8415-01-546-8657—size X-Small-Short.

NSN: 8415-01-546-8667—size X-Small-Regular.

NSN: 8415-01-546-8745—size Small-Short.

NSN: 8415-01-538-6057—size Small-Regular.

NSN: 8415-01-546-8758—size Small-Long.

NSN: 8415-01-538-6067—size Medium-Regular.

NSN: 8415-01-546-8809—size Medium-Long.

NSN: 8415-01-538-6074—size Large-Regular.

NSN: 8415-01-538-6080—size Large-Long.

NSN: 8415-01-538-6681—size X-Large-Regular.

NSN: 8415-01-538-6683—size X-Large-Long.

NSN: 8415-01-546-8820—size X-Large-XLong.

NSN: 8415-01-546-8828—size XX-Large-Regular.

NSN: 8415-01-546-8829—size XX-Large-Long.

NSN: 8415-01-546-8834—size XX-Large-XLong.

NPA: Blind Industries & Services of Maryland, Baltimore, MD.

Contracting Activity: Defense Logistics Agency Troop Support, Philadelphia, PA.

COVERAGE: C-List for 50% of the requirement of the Department of Defense, as aggregated by the Defense Logistics Agency Troop Support, Philadelphia, PA.

Services:

Service Type/Locations: Parts Machining DLA-wide; 2601 South Plum St., Seattle, WA; 5316 West State Street, Milwaukee, WI; 515 N. 51st Ave., #130, Phoenix, AZ.

NPAs: The Lighthouse for the Blind, Inc. (Seattle Lighthouse), Seattle, WA; Wiscraft Inc.—Wisconsin Enterprises for the Blind, Milwaukee, WI; Arizona Industries for the Blind, Phoenix, AZ.

Contracting Activity: Defense Logistics Agency, Philadelphia, PA.

Service Type/Location: Grounds Maintenance Service, Redstone Arsenal, 5298 Redstone Arsenal, Huntsville, AL.

NPAs: Employment Source, Inc., Fayetteville, NC; Huntsville Rehabilitation Foundation, Huntsville, AL.

Contracting Activity: Dept of the Army, XR W6BB ACA Redstone Arsenal, Redstone Arsenal, AL.

Deletions

On 12/10/2010 (75 FR 76961-76962), the Committee for Purchase From People Who Are Blind or Severely Disabled published notice of proposed deletions from the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 46-48c) in connection with services deleted from the Procurement List.

End of Certification

Accordingly, the following services are deleted from the Procurement List:

Services:

Service Type/Location: Audio/Visual Duplication Service, Federal Emergency Management Agency: National Emergency Training Center, 16825 South Seton Avenue, Emmitsburg, MD.

NPA: ForSight Vision, York, PA.

Contracting Activity: Federal Emergency Management Agency, NETC Acquisition Section, Washington, DC.

Service Type/Location: Custodial Service, Mauna Loa Observatory: Hilo Office, 1437 Kilauea Ave., #102, Hilo, HI.

NPA: The ARC of Hilo, Hilo, HI.

Contracting Activity: Department of Commerce, Washington, DC.

Barry S. Lineback,
Director, Business Operations.

[FR Doc. 2011-2466 Filed 2-3-11; 8:45 am]

BILLING CODE 6353-01-P